DEPARTMENT OF COMMERCE

Foreign-Trade Zones Board

[S-35-2017]

Foreign-Trade Zone 43—Battle Creek, Michigan, Application for Subzone Expansion, Mead Johnson & Company, LLC, Zeeland, Michigan

An application has been submitted to the Foreign-Trade Zones (FTZ) Board by the City of Battle Creek, grantee of FTZ 43, requesting an expansion of Subzone 43B on behalf of Mead Johnson & Company, LLC dba Mead Johnson Nutrition (Mead Johnson), located in Zeeland, Michigan. The application was submitted pursuant to the provisions of the Foreign-Trade Zones Act, as amended (19 U.S.C. 81a-81u), and the regulations of the FTZ Board (15 CFR 400). It was formally docketed on March 9, 2017.

Subzone 43B currently consists of the following sites: Site 1 (29.63 acres), 725 East Main Street, Zeeland; and, Site 4 (2.3 acres), 8250 Logistics Drive, Zeeland. The applicant is now requesting authority to remove Site 4 and to add a new site: Proposed Site 5 (22.8 acres), 750 East Riley Street, Zeeland. No additional production authority is being requested at this time. The expanded subzone would be subject to the existing activation limit of FTZ 43.

In accordance with the FTZ Board's regulations, Elizabeth Whiteman of the FTZ Staff is designated examiner to review the application and make recommendations to the Executive Secretary.

Public comment is invited from interested parties. Submissions shall be addressed to the FTZ Board's Executive Secretary at the address below. The closing period for their receipt is April 24, 2017. Rebuttal comments in response to material submitted during the foregoing period may be submitted during the subsequent 15-day period to May 8, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Elizabeth Whiteman at Elizabeth.Whiteman@trade.gov or (202) 482-0473.

Dated: March 9, 2017.
Andrew McGilvray,
Executive Secretary.

[FR Doc. 2017-04973 Filed 3-13-17; 8:45 am]

BILLING CODE 3510-DS-P